ENVIRONMENTAL PROTECTION AGENCY

[EPA-HQ-OPP-2013-0001; FRL-9398-8]

SFIREG Full Committee; Notice of Public Meeting

AGENCY: Environmental Protection Agency (EPA).

ACTION: Notice.

SUMMARY: The Association of American Pesticide Control Officials (AAPCO)/State FIFRA Issues Research and Evaluation Group (SFIREG), Environmental Quality Issues (EQI) Committee will hold a 2-day meeting, beginning on October 21, 2013, and ending October 22, 2013. This notice announces the location and times for the meeting and sets the tentative agenda topics.

DATES: The meeting will be held on Monday, October 21, 2013, from 8:30 a.m. to 5 p.m., and on Tuesday, October 22, 2013, from 8:30 a.m. to 12 noon.

To request accommodation of a disability, please contact the person listed under FOR FURTHER INFORMATON CONTACT, preferably at least 10 days prior to the meeting, to give EPA as much time as possible to process your request.

ADDRESSES: The meeting will be held at EPA, One Potomac Yard (South Bldg.) 2777 Crystal Dr., Arlington, VA, 4th Floor, South Conference Room.

FOR FURTHER INFORMATION CONTACT: Ron Kendall, Field and External Affairs Division (7506P), Office of Pesticide Programs, Environmental Protection Agency, 1200 Pennsylvania Ave. NW., Washington, DC 20460-0001; telephone number: (703) 305-5561; fax number: (703) 305-5884; email address: kendall.ron@epa.gov. or Grier Stayton, SFIREG Executive Secretary, P.O. Box 466, Milford, DE 19963; telephone number (302) 422-8152; fax (302) 422-2435; email address: aapco-sfireg@comcast.net.

SUPPLEMENTARY INFORMATION:

I. General Information

A. Does this action apply to me?

You may be potentially affected by this action if you are interested in pesticide regulation issues affecting States and any discussion between EPA and SFIREG on Federal Insecticide, Fungicide, and Rodenticide Act (FIFRA) field implementation issues related to human health, environmental exposure to pesticides, and insight into EPA's decisionmaking process. You are invited and encouraged to attend the meetings and participate as appropriate. Potentially affected entities may include, but are not limited to:

Those persons who are or may be required to conduct testing of chemical substances under the Federal Food, Drug and Cosmetics Act (FFDCA), or FIFRA and those who sell, distribute, or use pesticides, as well as any non-government organization.

If you have any questions regarding the applicability of this action to a particular entity, consult the person listed under FOR FURTHER INFORMATION CONTACT.

B. How can I get copies of this document and other related information?

The docket for this action, identified by docket ID number EPA-HQ-OPP-2013-0001 is available at http://www.regulations.gov, or at the Office of Pesticide Programs Regulatory Public Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Tentative Agenda Topics

1. Removal of aminopyralid from use in northeastern States due to compost contamination.

2. Availability of laboratory equipment to detect aminopyralid and similar pesticide residues in compost at biologically significant concentrations.

3. Status of pollinator protection efforts.

4. Bee incident updates and associated analytical detections.

5. Endangered and threatened species update.

6. Demo of revisions to the Pesticides of Interest National Tracking System (POINTS).

III. How can I request to participate in this meeting?

This meeting is open for the public to attend. You may attend the meeting without further notification.

List of Subjects

Environmental protection, Administrative practice and procedure, Aminopyralid, Bees, Compost, Endangered and threatened species, Health, Pesticides and pests, Pesticides of Interest National Tracking System (POINTS), Pollinators.

Dated: August 28, 2013.
Jay S. Ellenberger,
Acting Director, Field and External Affairs Division, Office of Pesticide Programs.

[FR Doc. 2013-21907 Filed 9-10-13; 8:45 am]

BILLING CODE 6560-50-P